DEPARTMENT OF JUSTICE

Notice of Lodging of Consent Decree Under the Comprehensive Environmental Response, Compensation and Liability Act (CERCLA)

Consistent with Section 122(d)(2) of CERCLA, 42 U.S.C. 9622(d)(2), and 28 CFR 50.7, notice is hereby given that on March 21, 2007, the proposed Consent Decree in United States v. Raybestos Products Company, Civil Action No. 1:07-cv-00374-DFH-TAB, was lodged with the United States District Court for the Southern District of Indiana. The proposed Consent Decree resolves the United States' claim under Section 107(a) of the Comprehensive Environmental Response, Compensation, and Liability Act, 42 U.S.C. 9607(a), relating to response costs incurred at or from sites known as the Shelly Ditch Reaches 1-3 Superfund Site, the Shelly Ditch Reach 4 Superfund Site, and the Sugar Creek Remedial Site, all located in Crawfordsville, Montgomery County, Indiana, as well as costs incurred at the Calumet Containers Site located in Hammond, Lake County, Indiana. The Consent Decree requires Raybestos Products Company (“Raybestos”) to pay $119,519.18 to the United States in partial reimbursement of response costs the United States Environmental Protection Agency (“EPA”) incurred at the Reach 4 Site. Among other things, the Consent Decree also requires that Raybestos not seek reimbursement for the response actions it conducted at the Reaches 1-3 Site pursuant to a Unilateral Order issued by EPA in December 2000 and modified in January 2001.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. Raybestos Products Company, D.J. Ref. 90-11-3-08736.

The proposed Consent Decree may be examined at the Office of the United States Attorney, 10 W. Market St., Suite 2100, Indianapolis, IN 46204 and at U.S. EPA Region V, 77 W. Jackson Blvd., Chicago, IL 60604. During the public comment period, the Consent Decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation no. (202) 514-1547. In requesting a copy from the Consent Decree Library, please enclose a check in the amount of $16.50 (25 cents per page reproduction cost) payable to the “U.S. Treasury” or, if by e-mail or fax, forward a check in that amount to the Consent Decree Library at the stated address.

Henry S. Friedman,
Assistant Section Chief, Environmental Enforcement Section, Environment and Natural Resources Division.

[FR Doc. 07-1661 Filed 4-4-07; 8:45 am]

BILLING CODE 4410-15-M